DEPARTMENT OF HOUSING AND URBAN DEVELOPMENT

[Docket No. FR-7092-N 30; OMB Control No.: 2528-0345]

30-Day Notice of Proposed Information Collection: Moving To Work, Asset Building Cohort Evaluation

AGENCY: Office of Policy Development and Research, Chief Data Officer, HUD.

ACTION: Notice.

SUMMARY: HUD is seeking approval from the Office of Management and Budget (OMB) for the information collection described below. In accordance with the Paperwork Reduction Act, HUD is requesting comments from all interested parties on the proposed collection of information. The purpose of this notice is to allow for 30 days of public comment.

DATES: Comments Due Date: October 20, 2025.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function.

FOR FURTHER INFORMATION CONTACT: Anna Guido, PRA Compliance Officer, Paperwork Reduction Act Division, PRAD, Department of Housing and Urban Development, 451 7th Street SW, Room 8210, Washington, DC 20410; email at PaperworkReductionActOffice@hud.gov, ATTN: Anna Guido, telephone (202) 402-5535. This is not a toll-free number. HUD welcomes and is prepared to receive calls om individuals who are deaf or hard of hearing, as well as individuals with speech or communication disabilities. To learn more about how to make an accessible telephone call, please visit https://www.fcc.gov/consumers/guides/telecommunications-relay-service-trs.

Copies of available documents submitted to OMB may be obtained from Ms. Guido.

SUPPLEMENTARY INFORMATION: This notice informs the public that HUD is seeking approval from OMB for the information collection described in Section A. The Federal Register notice that solicited public comment on the information collection for a period of 60 days was published on June 2, 2025 at 90 FR 23354.

A. Overview of Information Collection

Title of Information Collection: Moving to Work, Asset Building Cohort Evaluation.

OMB Approval Number: 2528-0345.

Type of Request: Revision of a currently approved collection.

Form Number: N/A.

Description of the need for the information and proposed use: HUD contracted with Abt Global and its partner MEF Associates to evaluate the Moving to Work Asset Building Cohort (hereinafter “Asset Building Cohort”). This 60-day Notice informs the public of intent to collect data from HUD-assisted households at Public Housing Agencies (PHAs) participating in the Moving to Work, Asset Building Cohort.

Nine of the 17 PHAs in the Asset Building Cohort implemented an opt-out savings program. (See PIH Notice 2022-11 for information on the opt-out savings account program.)

OMB approved data collection for the first phase of the evaluation of the Moving to Work Asset Building Cohort on January 10, 2024, under OMB Control Number 2528-0345. This 60-Day Notice seeks approval for the second phase of data collection, which includes a new instrument—the Opt-Out Saving Account Household Survey.

The first phase of the Asset Building Cohort evaluation was guided by a few overarching questions: (1) What programs are PHAs implementing? What are the characteristics of the group of residents participating in the programs? (2) How do participants understand the programs? And what do the programs mean for them personally? The programs will run for up to two years. This information collection request covers the second phase, which is guided by the following questions: (1) What is the impact of the opt-out savings program on assisted households' ability to build and maintain an emergency savings fund that helps them avoid material hardships?” (2) What is the impact of the program on their ability to use traditional financial products and decrease reliance on high-cost alternative financial products?”

This information collection request seeks approval for data collection needed to answer second phase questions. Consequently, it requests approval to collect data from a random sample of HUD-assisted households at PHAs implementing the opt-out savings account program, including randomly selected program participants and randomly selected non-participants (the control group) (n = 1,100). The evaluator will contact selected residents and ask them to participate in a 30-minute survey about financial goals and aspirations, and experiences with banking, savings, and credit. Participants assigned to the treatment group will be asked a few additional questions about their experiences with the program. Prior to the survey, the participants will receive an advance letter notifying them of the upcoming data collection.

Information collection | Number of respondents | Frequency of response | Total responses | Total burden hour per response | Total burden hours | Hourly cost per response | Total cost
Survey Advance Letter | 1,100 | 1 | 1,100 | . 08 | 88 | 11.89 | 1,046
Survey | 1,100 | 1 | 1,100 | . 5 | 550 | 11.89 | 6,539
Total |  |  |  |  |  |  | 7,585

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 2 of the Paperwork Reduction Act of 1995, 44 U.S.C. 3507.

Anna Guido,
Department PRA Compliance Officer, Office of Policy Development and Research, Chief Data Officer.

[FR Doc. 2025-18158 Filed 9-18-25; 8:45 am]

BILLING CODE 4210-67-P